DEPARTMENT OF THE INTERIOR

Bureau of Land Management

[FF06RBSW00 XXXF5137BC FVRS31100600000/NDM-21192]

Notice of Proposed Withdrawal, Transfer of Administrative Jurisdiction, and Opportunity for Public Meeting for the Dash Lake Waterfowl Production Area, North Dakota

AGENCY: Bureau of Land Management, Interior.

ACTION: Notice of proposed withdrawal.

SUMMARY: At the request of the United States Fish and Wildlife Service (FWS) and subject to valid existing rights, the Secretary of the Interior proposes to withdraw 13.50 acres of public land from appropriation under the public land laws, including location and entry under the United States mining laws, but not from leasing under the mineral and geothermal leasing laws, for 100 years, and transfer administrative jurisdiction to FWS to protect and reserve the land for management as part of the Dash Lake Waterfowl Production Area in Towner County, North Dakota. Publication of this notice temporarily segregates the land for up to 2 years from appropriation under the public land laws, including location and entry under the United States mining laws, subject to valid existing rights, but not from leasing under the mineral and geothermal leasing laws, while the application is being processed. The notice initiates a 90-day public comment period and announces an opportunity to request a public meeting on the proposed withdrawal.

DATES: Comments and requests for a public meeting must be received by June 15, 2022.

ADDRESSES: All comments should be sent to the Bureau of Land Management (BLM) Montana State Office, Attn: MT924, 5001 Southgate Drive, Billings, MT 59102; or sent by email to dsorg@blm.gov. The BLM will not consider comments via telephone calls.

FOR FURTHER INFORMATION CONTACT: Debby Sorg, Land Law Examiner, BLM Montana State Office, telephone: (406) 896-5045, email: dsorg@blm.gov; or you may contact the BLM office at the address noted earlier. Individuals in the United States who are deaf, deafblind, hard of hearing, or have a speech disability may dial 711 (TTY, TDD, or TeleBraille) to access telecommunications relay services for contacting Ms. Sorg. Individuals outside the United States should use the relay services offered within their country to make international calls to the point-of-contact in the United States.

SUPPLEMENTARY INFORMATION: The applicant is the FWS, and its petition/application requests the Secretary of the Interior withdraw the following described public land from all forms of appropriation under the public land laws, including location and entry under the United States mining laws, subject to valid existing rights, but not from leasing under the mineral and geothermal leasing laws; transfer administrative jurisdiction to FWS; and reserve the land for management of a waterfowl production area for a 100-year term.

Fifth Principal Meridian, North Dakota

T. 163 N., R. 65 W.,

Sec. 5, lot 3.

The area described contains 13.50 acres.

The Secretary of the Interior approved the FWS's petition. Therefore, the petition/application constitutes a withdrawal proposal of the Secretary of the Interior (43 CFR 2310.1-3(e)).

The use of a rights-of-way, interagency agreement, or cooperative agreement would not provide adequate protection of the waterfowl production area.

No additional water rights will be needed to fulfill the purpose of this new withdrawal.

There are no suitable alternative sites since these lands are located within the Dash Lake Waterfowl Production Area.

Before including your address, phone number, email address, or other personal identifying information in your comment, you should be aware that your entire comment, including your personal identifying information, may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request to the BLM Montana/Dakotas State Director no later than June 15, 2022. If the authorized officer determines that a public meeting will be held, a notice of the time and place will be published in the Federal Register and a local newspaper at least 30 days before the scheduled date of the meeting.

For a period until March 18, 2024, the public land described earlier will be segregated from all forms of appropriation under the public land laws, including location and entry under the United States mining laws, subject to valid existing rights, but not from leasing under the mineral and geothermal leasing laws, unless the application is denied or canceled, or the withdrawal is approved prior to that date. The BLM and the FWS are preparing an environmental assessment and anticipate reaching a finding of no significant impact. Information regarding the proposed withdrawal, including environmental and other reviews will be available at the Montana State Office and on BLM's ePlanning site at https://eplanning.blm.gov/eplanning-ui/project/2017980/510.

This application will be processed in accordance with the regulations set forth in 43 CFR part 2300.

Theresa M. Hanley,
Acting Montana State Director.

[FR Doc. 2022-05686 Filed 3-16-22; 8:45 am]

BILLING CODE 4333-15-P